DEPARTMENT OF VETERANS AFFAIRS

[OMB Control No. 2900-0074]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATE: Comments must be submitted on or before December 4, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0074.”

SUPPLEMENTARY INFORMATION: Title: Request for Change of VA Education Program or Place of Training for Veterans, Servicepersons, & Members of the Selected Reserve, VA Form 22-1995.

OMB Control Number: 2900-0074.

Type of Review: Revision of a currently approved collection.

Abstract: VA pays educational benefits to eligible veterans and persons on active duty, and to persons in the Selected Reserve. Each veteran, person on active duty, or person in the Selected Reserve must be pursuing an approved program of training to be eligible for benefits. The eligible student must complete VA Form 22-1995 to identify and request approval for a supplementary educational objective or place of training. VA uses the information to determine continued eligibility for educational benefits, and to monitor the number of times a veteran, person on active duty, or person in the Selected Reserve has changed his or her educational objectives.

An agency may not conduct or sponsor, and a person is not required to respond to a collection of information unless it displays a currently valid OMB control number. The Federal Register Notice with a 60-day comment period soliciting comments on this collection of information was published on June 15, 2000, at pages 37603-37604.

Affected Public: Individuals or households.

Estimated Annual Burden: 24,060 hours.

Estimated Average Burden Per Respondent: 12 minutes.

Frequency of Response: On occasion.

Estimated Number of Respondents: 120,300.

Send comments and recommendations concerning any aspect of the information collection to VA's Desk Officer, OMB Human Resources and Housing Branch, New Executive Office Building, Room 10235, Washington, DC 20503 (202) 395-7316. Please refer to “OMB Control No. 2900-0074” in any correspondence.

Dated: September 22, 2000.
By direction of the Acting Secretary:
Donald L. Neilson,
Director, Information Management Service.

[FR Doc. 00-28079 Filed 11-01-00; 8:45 am]

BILLING CODE 8320-01-P